DEPARTMENT OF HOMELAND SECURITY

Coast Guard

33 CFR Part 165

[CGD05-07-011]

RIN 1625-AA00

Safety Zone; Upper Chesapeake Bay and Its Tributaries and the C & D Canal, Maryland, Virginia, and Washington, DC

AGENCY: Coast Guard, DHS.

ACTION: Temporary final rule; correcting amendment.

SUMMARY: This document contains a correction to the section establishing a temporary safety zone in all navigable waters of the Captain of the Port Baltimore zone published on February 23, 2007, in the Federal Register (72 FR 8112).

DATES: This correction is effective March 8, 2007 until April 16, 2007.

ADDRESSES: Documents indicated in this preamble as being available in the docket are part of docket CGD05-07-011 and are available for inspection or copying at Commander, Coast Guard Sector Baltimore, 2401 Hawkins Point Road, Baltimore, Maryland 21226-1791, between 8 a.m. and 4 p.m., Monday through Friday, except Federal holidays.

FOR FURTHER INFORMATION CONTACT: If you have questions on viewing the docket, call Mr. Ronald L. Houck, Coast Guard Sector Baltimore, at (410) 576-2674.

SUPPLEMENTARY INFORMATION: On February 23, 2007, the Coast Guard published a temporary final rule (72 FR 8112) to establish a temporary safety zone in all navigable waters of the Captain of the Port Baltimore Zone. The temporary safety zone restricts vessels from transiting the zone during ice season. Due to a drafting error in the temporary final rule the Captain of the Port's requirements associated with different levels of ice conditions were unclear. This correction document makes corrections to the temporary final rule to provide clarification.

List of Subjects in 33 CFR Part 165

Harbors, Marine safety, Navigation (water), Reporting and recordkeeping requirements, Security measures, Waterways.

Accordingly, 33 CFR part 165 is corrected by making the following correcting amendments:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. Revise temporary § 165.T05-011 to read as follows:

§ 165.T05-011 Safety zone; Upper Chesapeake Bay and its tributaries and the C & D Canal, MD, VA and Washington, DC

(a) Purpose. The purpose of this regulation is to promote maritime safety, and to protect the environment and mariners transiting the area from the potential hazards due to ice conditions that become a threat to navigation.

(b) Location. The following area is a temporary safety zone: All inland, navigable waters of the Captain of the Port, Baltimore Zone (see 33 CFR 3.25-15).

(c) Regulations. All persons are required to comply with the general regulations governing safety zones in 33 CFR 165.23 of this part.

(1) When an ice condition is set by the Captain of the Port (COTP), all vessel traffic is prohibited in the safety zone unless they meet the requirements set forth by the COTP by Marine Safety Radio Broadcast on VHF-FM marine band radio, channel 22A (157.1 MHZ). Requirements are as follows: (i) Ice Condition One: Convoys are required and restrictions to shaft horsepower and vessel transit are imposed.

(ii) Ice Condition Two: The COTP Baltimore may impose restrictions, including but not limited to, shaft horsepower and hull type restrictions.

(iii) Ice Condition Three: No limitations on vessel traffic, hull type or shaft horsepower.

(2) Persons desiring to transit in the safety zone not meeting the requirements of the Ice Condition established by the COTP must contact the COTP at telephone number (410) 576-2693 or on VHF channel 13 or 16 to seek permission prior to transiting the area. If permission is granted, all persons and vessels shall comply with the instructions of the COTP Baltimore, MD or designated representative.

(3) All Coast Guard assets enforcing this safety zone can be contacted on VHF marine band radio, channels 13 and 16. The COTP can be contacted at telephone number (410) 576-2693.

(4) The COTP will notify the public of any changes in the status of this safety zone by Marine Safety Radio Broadcast on VHF-FM marine band radio, channel 22A (157.1 MHZ).

(5) Mariners granted permission to transit the safety zone must maintain the minimum safe speed necessary to maintain navigation as per 33 CFR Chapter I, Subchapters D and E.

(d) Definitions as used in this section.

(1) Captain of the Port means the Commander, Coast Guard Sector Baltimore or any Coast Guard commissioned warrant or petty officer who has been authorized by the Captain of the Port to act on his behalf.

(2) Ice Condition One means the emergency condition in which ice has largely covered the Upper Chesapeake Bay and its tributaries, and the C & D Canal.

(3) Ice Condition Two means the alert condition in which at least 2 inches of ice begins to form in the Upper Chesapeake Bay and its tributaries, and the C & D Canal.

(4) Ice Condition Three means the readiness condition in which weather conditions are favorable for the formation of ice in the navigable waters of the Upper Chesapeake Bay and its tributaries, including the C & D Canal. Daily reports for the Coast Guard Stations and commercial vessels are monitored.

(5) All vessel traffic means those vessels seeking to enter the safety zone as well as those vessels already located within the zone who wish to exit, and excludes those vessels that are moored or anchored in the zone and intend to remain so.

(e) Enforcement. The U.S. Coast Guard may be assisted in the patrol and enforcement of the zones by Federal, State and local agencies.

(f) Enforcement period. This section will be enforced from February 5, 2007 until April 15, 2007.

Dated: February 28, 2007.
Stefan G. Venckus,
Chief, Office of Regulations and Administrative Law United States Coast Guard.

[FR Doc. E7-3957 Filed 3-7-07; 8:45 am]

BILLING CODE 4910-15-P